DEPARTMENT OF LABOR

Employment and Training Administration

[TA-W-54,761]

Detroit Diesel A Division of DaimlerChrysler Detroit, MI; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on June 3, 2004, applicable to the workers of Detroit Diesel, a division of DaimlerChrysler, Detroit, Michigan. The notice will soon be published in the Federal Register.

At the request of the State agency, the Department reviewed the certification for workers of the subject firm. The workers are engaged in the production of diesel engines.

Information shows that the petitioner, the International Union, United Automobile, Aerospace & Agricultural Workers of America (UAW), requested Alternative Trade Adjustment Assistance (ATAA) on behalf of the workers of the subject firm but that request was not addressed in the decision document.

Information obtained from the company indicates that a significant number of workers of the subject firm are age 50 or over, workers have skills that are not easily transferable, and conditions within the industry are adverse. Review of this information shows that all eligibility criteria under section 246 of the Trade Act of 1974 (26 U.S.C. 2813), as amended have been met.

Accordingly, the Department is amending the certification to reflect its finding.

The amended notice applicable to TA-W-54,761 is hereby issued as follows:

All workers of Detroit Diesel, a division of DaimlerChrysler, Detroit, Michigan who became totally or partially separated from employment on or after April 19, 2003, through June 3, 2006, are eligible to apply for adjustment assistance under section 223 of the Trade Act of 1974 and are also eligible to apply for Alternative Trade Adjustment Assistance under section 246 of the Trade Act of 1974.

Signed in Washington, DC, this 14th day of June 2004.
Richard Church,
Certifying Officer, Division of Trade Adjustment Assistance.

[FR Doc. 04-14787 Filed 6-29-04; 8:45 am]

BILLING CODE 4510-30-P